DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Pilot Study of African American Women on Health Care Attitudes and Behaviors—NEW

The Office of Minority and Women's Health (OMWH) in the Bureau of Primary Health Care (BPHC), Health Resources and Services Administration (HRSA) awarded funding for a pilot study which will develop information about the design of a sample appropriate to determine the health status, behaviors, and health service perceptions of African American women who are: (1) College educated, and (2) low income, non-college educated. The pilot study will be used to evaluate the interview instrument and to discover the practical issues and feasibility of sampling low income African American women from the databases of community health centers in three test locations. The goal is to assess the instrument, the sample sources, the procedures, and the response rates and to determine the extent to which data can be collected in a systematic and comprehensive manner. The pilot study is the first step in a much larger nationwide effort to build a significant data set containing detailed information on health status, health indicators, and health behaviors of African American women.

The burden estimate for the pilot study is as follows:

Respondent | Number of respondents | Responses per respondent | Total responses | Hours per response | Total hour burden
College educated | 60 | 1 | 60 | 30 minutes | 30
Non-college educated | 180 | 1 | 180 | 30 minutes | 90
Total | 240 |  | 240 |  | 120

Written comments and recommendations concerning the proposed information collection should be sent within 30 days of this notice to: Wendy A. Taylor, Human Resources and Housing Branch, Office of Management and Budget, New Executive Office Building, Room 10235, Washington, D.C. 20503.

Dated: February 28, 2000.
Jane Harrison,
Director, Division of Policy Review and Coordination.

[FR Doc. 00-5255 Filed 3-3-00; 8:45 am]

BILLING CODE 4160-15-P